DEPARTMENT OF COMMERCE

International Trade Administration

Travel and Tourism Trade Mission to Taiwan, Japan and Korea

AGENCY: International Trade Administration, Department of Commerce.

ACTION: Notice; cancellation.

SUMMARY: The United States Department of Commerce, International Trade Administration, Industry and Analysis previously published a document in the Federal Register on June 7, 2013, 78 FR 34344, regarding the Travel and Tourism Trade Mission to Taiwan, Japan and Korea scheduled for March 10-14, 2014. This mission has been cancelled. Please update the existing notice with a note that this mission is cancelled as a February 19, 2014.

FOR FURTHER INFORMATION CONTACT: Frank Spector, Industry and Analysis, Trade Promotion Programs, Phone: 202-482-2054; Fax: 202-482-9000, Email: Frank.Spector@trade.gov.

Cancellation Notice

In the Federal Register Notice of June 7, 2013, 78 FR 34344 on page 34344, title note at top of page, correct the subject heading of the notice to read: Travel and Tourism to Taiwan, Japan and Korea has been cancelled, March 10-14, 2014.

Dated: February 19, 2014.
Elnora Moye,
Trade Program Assistant.

[FR Doc. 2014-04120 Filed 2-25-14; 8:45 am]

BILLING CODE 3510-DR-P